DEPARTMENT OF AGRICULTURE

Submission for OMB Review; Comment Request

July 30, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service,

Title: Blood and Tissue Collection at Slaughtering Establishments

OMB Control Number: 0579-0212

Summary of Collection: Title 21, U.S.C. 117, Animal Industry Act of 1884, authorizes the Secretary to prevent, control and eliminate domestic diseases such as brucellosis and chronic wasting disease, as well as to take action to prevent and to manage exotic diseases such as foot-and-mouth disease, rinderpest, and other foreign animal diseases. Regulations in 9 CFR, subchapter C, part 71, provide for the collection of blood and tissue samples from livestock (horses, cattle, bison, captive cervids, sheep and goats, swine, and other farmed animals) and poultry at slaughter. Disease surveillance plays an important role in the APHIS mission of protecting the health of the U.S. livestock and poultry population, and testing animals for disease is an important surveillance tool. The Animal and Plant Health Inspection Service (APHIS) will collect information using VS form 10-4 and 10-4A, Specimen Submission Form and Supplemental Sheet and VS form 10-5, Facility Inspection Report.

Need and Use of the Information: APHIS will collect information to identify specimens (blood and tissue) submitted for laboratory analysis and to identify the individual animal from which the specimen was taken as well as the animal's herd or flock; the type of specimen submitted, and the purpose for submitting the specimen. Without the information contained on the form, personnel at the National Veterinary Services Laboratories or other Federal laboratories would have no way of identifying or processing the specimens being sent to them for analysis.

Description of Respondents: Business or other for-profit.

Number of Respondents: 155.

Frequency of Responses: Reporting: On occasion.

Total Burden Hours: 4,209.

Ruth Brown,
Departmental Information Collection Clearance Officer.

[FR Doc. E7-15010 Filed 8-1-07; 8:45 am]

BILLING CODE 3410-34-P